DEPARTMENT OF THE INTERIOR

Bureau of Land Management

[CA-180-1430-ES; CACA 27456]

Notice of Realty; Recreation and Public Purposes Classification for Lease and/or Conveyance; El Dorado County, CA

AGENCY: Bureau of Land Management, Interior.

ACTION: Notice of realty action.

SUMMARY: It is proposed to classify 190 acres of land for lease and/or conveyance to the Georgetown Divide Recreation District (GDRD) under the Recreation and Public Purposes (R&PP) Act, such land to be added by amendment to an existing R&PP Act lease of 35 acres, CACA 27456-01. As explained below, it is further proposed to change the use of the existing lease from a local park to a regional recreational facility.

DATES: The land will be segregated from all other forms of appropriation under the public land laws, including the general mining laws and leasing under the mineral leasing laws, except for leasing or conveyance under the Recreation and Public Purposes Act on February 10, 2004.

ADDRESSES: For a period until March 26, 2004, interested persons may submit comments regarding the proposed classification, leasing or conveyance of the land to the Field Manager, Folsom Field Office Bureau of Land Management, 63 Natoma Street, Folsom, California.

FOR FURTHER INFORMATION CONTACT: You may contact Karen Montgomery at (916) 985-4474.

SUPPLEMENTARY INFORMATION: The GDRD proposes an amendment to R&PP Lease CACA 27456-01 to add 190 acres to an existing lease of 35 acres and to change the use of the lease from a local park to a regional recreational facility with playing fields, a skate park, a disc golf course, a swimming pool, a recreation center/gymnasium, and an equestrian staging area. The following public land, located in El Dorado County, near the community of Greenwood has been examined and found suitable for lease and/or conveyance for recreational or public purposes under the provisions of the Recreation and Public Purposes Act, as amended (43 U.S.C. 869 et seq.).

T. 12 N., R. 10 E., M.D.M.,

Sec. 6, lots 8 and 13;

Sec. 7, lots 1, 11, 20, 23, 25, 26, 31, 33, and portions of lots 28, 32, and MS 6418.

Containing 225 acres, more or less.

The land is not required for any federal purpose. The lease and/or conveyance is consistent with current Bureau planning for this area and would be in the public interest. The lease and/or patent, when issued, will be subject to the provisions of the Recreation and Public Purposes Act and applicable regulations of the Secretary of the Interior and will contain the following reservations to the United States:

1. A right-of-way thereon for ditches or canals constructed by the authority of the United States, Act of August 30, 1890 (43 U.S.C. 945).

2. All minerals shall be reserved to the United States.

3. Any other valid and existing rights of record not yet identified.

Classification Comments

Interested parties may submit comments involving the suitability of the land for a regional park facility. Comments on the classification are restricted to whether the land is physically suited for the proposal, whether the use will maximize the future use or uses of the land, whether the use is consistent with local planning and zoning, or if the use is consistent with State and Federal programs.

Application Comments

Interested parties may submit comments regarding the specific use proposed in the application, whether the BLM followed proper administrative procedures in reaching the decision, or any other factor not directly related to the suitability of the land for a regional park.

Any adverse comments will be reviewed by the State Director. In the absence of any adverse comments, the classification will become effective April 12, 2004. A plan of development for the regional park is on file in the Folsom Field Office.

(Authority: 43 CFR 2741.5 (h)(1)).

D.K. Swickard,
Field Manager.

[FR Doc. 04-2759 Filed 2-9-04; 8:45 am]

BILLING CODE 4310-40-P